DEPARTMENT OF THE INTERIOR

Bureau of Ocean Energy Management

30 CFR Part 551

[Docket ID: BOEM-2025-0038]

RIN 1010-AE34

Rescission of Expired 1-Year Grace Period for Data Extensions; Corrections

AGENCY: Bureau of Ocean Energy Management, Interior.

ACTION: Correcting amendments.

SUMMARY: On August 12, 2025, the Bureau of Ocean Energy Management (BOEM) published a final rule that removed reference to an expired grace period for data extensions. Some of the language from this section was inadvertently erased. This document corrects the final regulations.

DATES: Effective on September 25, 2025.

FOR FURTHER INFORMATION CONTACT: Jennifer Jones, Office of Regulatory Affairs, BOEM, 1849 C Street NW, Washington, DC 20240, at email address jennifer.jones@boem.gov, or at telephone number (202) 571-8664.

SUPPLEMENTARY INFORMATION: On August 12, 2025, BOEM published a final rule in the Federal Register (90 FR 38705) that modified paragraph (b)(2) of § 551.14. Paragraphs (b)(2)(i) through (viii), which list the required components of the application for reprocessed data term extensions, were inadvertently and unintentionally left out of the final rule text. This document corrects the final regulations to restore those paragraphs.

List of Subjects in 30 CFR Part 551

Freedom of information, Oil and gas exploration, Reporting and recordkeeping requirements, Research.

This action by the Assistant Secretary is taken herein pursuant to an existing delegation of authority.

Jacob Tyner,
Deputy Assistant Secretary, Land and Minerals Management.

Accordingly, 30 CFR part 551 is corrected by making the following correcting amendments:

PART 551—GEOLOGICAL AND GEOPHYSICAL (G&G) EXPLORATIONS OF THE OUTER CONTINENTAL SHELF

1. The authority citation for part 551 continues to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

2. Amend § 551.14 by revising paragraph (b)(2) to read as follows:

§ 551.14 Protecting and disclosing data and information submitted to BOEM under a permit

* * * * *

(b) * * *

(2) Permittees and third parties may apply to BOEM for an extension of the 25-year proprietary term for geophysical information reprocessed 20 or more years after BOEM issued the germane permit. You must submit the application to BOEM within 90 days after completion of the reprocessing. Filing locations are listed in § 551.5(d). Your application must include:

(i) Name and address of the permittee or third party;

(ii) Product name;

(iii) Identification of the geophysical information area;

(iv) Identification of originating permit number and date;

(v) Description of reprocessing performed;

(vi) Identification of the date of completion of reprocessing the geophysical information;

(vii) Certification that the product meets the definition of processed geophysical information and that all other information in the application is accurate; and

(viii) Signature and date.

* * * * *

[FR Doc. 2025-18561 Filed 9-24-25; 8:45 am]

BILLING CODE 4340-98-P